DEPARTMENT OF COMMERCE

National Oceanic and Atmospheric Administration

[I.D. 091503A]

Proposed Information Collection; Comment Request; Antarctic Living Marine Resources Conservation and Management Measures.

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 17, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Robert Dickinson at 301-713-2276, ext. 154, or at Bob.Dickinson@noaa.gov.

SUPPLEMENTARY INFORMATION:

I. Abstract

Pursuant to the Antarctic Marine Living Resources Convention Act of 1984, NOAA supports the Commission for the Conservation of Antarctic Marine Living Resources (CCAMLR). CCAMLR meets annually to adopt conservation and management measures. These include harvesting restrictions, import controls, and data reporting requirements. As a member of CCAMLR, the United States is obligated to put these measures into effect.

II. Method of Collection

Information is submitted by a variety of means, including paper forms, automatic position reports from a Vessel Monitoring System, and radioed reports.

III. Data

OMB Number: 0648-0194.

Form Number: None.

Type of Review: Regular submission.

Affected Public: Business or other for-profit organizations, individuals or households.

Estimated Number of Respondents: 87.

Estimated Time Per Response: 15 minutes for a dealer permit application or a reexport permit application; 3 minutes for a dealer catch document; 15 minutes for a dealer reexport catch documentation; 15 minutes for a harvesting vessel catch document; 15 minutes for a pre-approval application for toothfish imports; 15 minutes for an import ticket; 0.33 seconds for an automatic position report from a Vessel Monitoring System (VMS); 4 hours to install a VMS; 2 hours for annual maintenance of a VMS; 28 hours for an application for a new or exploratory fishery; 1 hour for an application to harvest/transship; 2 minutes for a radioed position report; 1 hour for an application for a CCAMLR Ecosystem Monitoring Program permit; and 1 hour for a CCAMLR Ecosystem Monitoring Program site activity report.

Estimated Total Annual Burden Hours: 569.

Estimated Total Annual Cost to Public: $68,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 12, 2003.
Gwellnar Banks,
Management Analyst, Office of the Chief Information Officer.

[FR Doc. 03-23863 Filed 9-17-03; 8:45 am]

BILLING CODE 3510-22-S